DEPARTMENT OF HEALTH AND HUMAN SERVICES

Meeting of the National Vaccine Advisory Committee

AGENCY: Department of Health and Human Services, Office of the Secretary, Office of Public Health and Science.

ACTION: Notice; amendment.

SUMMARY: A notice was published in the Federal Register on Wednesday, August 26, 2009, Vol. 74, No. 164, to announce that a meeting of the National Vaccine Advisory Committee will be held on September 15 and 16, 2009. The meeting is open to the public. The meeting proceedings also will be Webcast; the Webcast can be viewed at http://videocast.nih.gov.

FOR FURTHER INFORMATION CONTACT: Ms. Andrea Krull, Public Health Advisor, National Vaccine Program Office, Department of Health and Human Services, Room 715H Hubert H. Humphrey Building, 200 Independence Avenue, SW., Washington, DC 20201. Phone: (202) 690-5566; Fax: (202) 260-1165: e-mail; nvpo@hhs.gov.

Dated: September 3, 2009.
Bruce Gellin,
Deputy Assistant Secretary for Health, Director, National Vaccine Program Office.

[FR Doc. E9-21750 Filed 9-9-09; 8:45 am]

BILLING CODE 4150-44-P